DEPARTMENT OF COMMERCE

National Oceanic and Atmospheric Administration

[RTID 0648-XA258]

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a three-day meeting via webinar of its Standing, Reef Fish, Mackerel, Ecosystem and Socioeconomic Scientific and Statistical Committees (SSC).

DATES: The meeting will be held on Tuesday, July 21, Wednesday, July 22, and Thursday, July 23, 2020, from 9 a.m. to 5 p.m., EDT daily.

ADDRESSES: The meeting will take place via webinar; you may register by visiting www.gulfcouncil.org and clicking on the SSC meeting on the calendar.

Council address: Gulf of Mexico Fishery Management Council, 4107 W. Spruce Street, Suite 200, Tampa, FL 33607; telephone: (813) 348-1630.

FOR FURTHER INFORMATION CONTACT: Ryan Rindone, Lead Fishery Biologist, Gulf of Mexico Fishery Management Council; ryan.rindone@gulfcouncil.org, telephone: (813) 348-1630.

SUPPLEMENTARY INFORMATION:

Tuesday, July 21, 2020; 9 a.m.-5 p.m.

The meeting will begin with Introductions, Adoption of Agenda, Approval of Minutes from the June 29 and July 8-9, 2020 webinar meetings. Council staff will review the Scope of Work; and, the Committees will select a SSC Representative for the August 24-27, 2020 Gulf Council meeting. Florida Fish and Wildlife Conservation Commission (FWC) staff will review Southeast Data, Assessment, and Review (SEDAR) 64—Southeastern US Yellowtail Snapper Stock Assessment; with Current and Marine Recreational Information Program (MRIP)-adjusted Stock Apportionment between the Gulf of Mexico Fishery Management Council (GMFMC) and South Atlantic Fishery Management Council (SAFMC); and, Current and MRIP-adjusted Stock Allocations for the SAFMC. The Committees will also receive a Stock Assessment Executive Summary.

Committees will review an update of SEDAR 28—Gulf of Mexico Migratory Group Cobia Stock Assessment; including Assessment Presentation and Stock Status Determination, Projections and the Stock Assessment Executive Summary.

Wednesday, July 22, 2020; 9 a.m.-5 p.m.

The Committees will review the July 13, 2020 MRIP Private Recreational Red Snapper Data Calibrations Workshop. The Committees will discuss the NOAA Office of Science and Technology (OST) Calibrations and Southeast Regional Office (SERO) Adjustments to Calibrations, Next Steps for Data Availability and Data Adjusting; Review of State-generated Calibrations; and, SSC Discussion.

Thursday, July 23, 2020; 9 a.m.-5 p.m.

The Committees will conclude their review the July 13, 2020 MRIP Private Recreational Red Snapper Data Calibrations Workshop. The Southeast Fisheries Science Center (SEFSC) will review Individual Fishing Quota (IFQ) Capacity and Technical Efficiency study. SEDAR will update the Committees on the Operational Assessment Process, and Council staff will review the proposed Timelines and Stock Identifications Process for SEDAR 74—Gulf of Mexico Red Snapper. Council and SEFSC staff will then review the Shrimp Stock Assessment Terms of Reference with the Committees.

Lastly, the Committees will discuss any other business items and receive public comments.

—Meeting Adjourns

The meeting will be broadcast via webinar. You may register for the webinar by visiting www.gulfcouncil.org and clicking on the SSC meeting on the calendar.

The Agenda is subject to change, and the latest version along with other meeting materials will be posted on www.gulfcouncil.org as they become available.

Although other non-emergency issues not on the agenda may come before the Scientific and Statistical Committees for discussion, in accordance with the Magnuson-Stevens Fishery Conservation and Management Act, those issues may not be the subject of formal action during this meeting. Actions of the Scientific and Statistical Committee will be restricted to those issues specifically identified in the agenda and any issues arising after publication of this notice that require emergency action under section 305(c) of the Magnuson-Stevens Fishery Conservation and Management Act, provided the public has been notified of the Council's intent to take action to address the emergency.

Authority: 16 U.S.C. 1801 et seq.

Dated: July 1, 2020.
Tracey L. Thompson,
Acting Deputy Director, Office of Sustainable Fisheries, National Marine Fisheries Service.

[FR Doc. 2020-14567 Filed 7-6-20; 8:45 am]

BILLING CODE 3510-22-P